DEPARTMENT OF HEALTH AND HUMAN SERVICES

Centers for Medicare & Medicaid Services

[Document Identifier CMS-372(S)]

Agency Information Collection Activities: Proposed Collection; Comment Request

AGENCY: Centers for Medicare & Medicaid Services, Health and Human Services (HHS).

ACTION: Notice; withdrawal.

On Thursday, February 25, 2021, the Centers for Medicare & Medicaid Services (CMS) published a 60-day notice entitled, “Agency Information Collection Activities: Proposed Collection; Comment Request.” That notice invited public comments on the following information collection request: Title: Annual Report on Home and Community Based Services Waivers and Supporting Regulations; Form Number: CMS-372(S); and OMB Control Number: 0938-0272. Through the publication of this document we are withdrawing that notice (FR document: 2021-03916) in its entirety. While the notice published in error, it will be resubmitted for publication and public comment when ready.

Dated: February 25, 2021.
William N. Parham, III,
Director, Paperwork Reduction Staff, Office of Strategic Operations and Regulatory Affairs.

[FR Doc. 2021-04296 Filed 3-1-21; 8:45 am]

BILLING CODE 4120-01-P